DEPARTMENT OF AGRICULTURE

Forest Service

Tuolumne County Resource Advisory Committee

AGENCY: Forest Service, USDA.

ACTION: Notice of meeting.

SUMMARY: The Tuolumne County Resource Advisory Committee will meet on August 29, 2005, at the City of Sonora Fire Department, in Sonora, California. The purpose of the meeting is to finalize voting on projects, determine final grant administration costs based on projects selection, determine need for the September 12 meeting, and schedule meetings and topics for year 2006

DATES: The meeting will be held August 29, 2005, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370. (209) 532-3671; e-mail pkauner@fs.fed.us.

SUPPLEMENTARY INFORMATION: Agenda items to be covered include: (1) Finalize voting on projects, dialogue; (2) determine final grant administration costs based on project selection; (3) determine need for September 12 meeting; (4) schedule meetings/topics for 2006; and (5) public comment on meeting proceedings. This meeting is open to the public.

Dated: August 2, 2005.
Jerome E. Perez,
Deputy Forest Supervisor.

[FR Doc. 05-15583 Filed 8-5-05; 8:45 am]

BILLING CODE 3410-ED-M